SECURITIES AND EXCHANGE COMMISSION

[File No. 500-1]

In the Matter of Griffin Mining, Inc., Power Sports Factory, Inc., Star Energy Corp., TransNet Corp., Valcom, Inc., and Vibe Records, Inc.; Order of Suspension of Trading

May 15, 2013.

It appears to the Securities and Exchange Commission that there is a lack of current and accurate information concerning the securities of Griffin Mining, Ltd. because it has not filed any periodic reports since it filed an amended registration statement on December 7, 1998.

It appears to the Securities and Exchange Commission that there is a lack of current and accurate information concerning the securities of Power Sports Factory, Inc. because it has not filed any periodic reports since the period ended March 31, 2010.

It appears to the Securities and Exchange Commission that there is a lack of current and accurate information concerning the securities of Star Energy Corp. because it has not filed any periodic reports since the period ended September 30, 2008.

It appears to the Securities and Exchange Commission that there is a lack of current and accurate information concerning the securities of TransNet Corp. because it has not filed any periodic reports since the period ended March 31, 2011.

It appears to the Securities and Exchange Commission that there is a lack of current and accurate information concerning the securities of Valcom, Inc. because it has not filed any periodic reports since the period ended June 30, 2011.

It appears to the Securities and Exchange Commission that there is a lack of current and accurate information concerning the securities of Vibe Records, Inc. because it has not filed any periodic reports since the period ended September 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 15, 2013, through 11:59 p.m. EDT on May 29, 2013.

By the Commission.
Lynn M. Powalski,
Deputy Secretary.

[FR Doc. 2013-11915 Filed 5-15-13; 4:15 pm]

BILLING CODE 8011-01-P